DEPARTMENT OF EDUCATION

Correction Notice

AGENCY: Department of Education.

ACTION: Correction notice.

SUMMARY: On June 12, 2007, a 60-day notice inviting comment from the public was inadvertently published for the “Title VI Undergraduate International Studies and Foreign Language Program” in the Federal Register (72 FR 32288) dated June 12, 2007. This notice amends the public comment period for this program to 30 days. The IC Clearance Official, Regulatory Information Management Services, Office of Management, hereby issues a correction notice as required by the Paperwork Reduction Act of 1995.

DATES: Interested persons are invited to submit comments on or before July 23, 2007.

ADDRESSES: Written comment should be addressed to the Office of Information and Regulatory Affairs, Attention: Nicole Cafarella, Desk Officer, Department of Education, Office of Management and Budget, 725 17th Street, NW., Room 10235, New Executive Office Building, Washington, DC 20503. Written requests for information should be addressed to U.S. Department of Education, 400 Maryland Avenue, SW., Potomac Center, 9th Floor, Washington, DC 20202-4700. Requests may also be electronically or should be electronically mailed to the Internet address ICDocketMgr@ed.gov or faxed to 202-245-6623.

FOR FURTHER INFORMATION CONTACT: Angela Arrington, (202) 245-6409.

Dated: June 15, 2007.
Angela C. Arrington,
IC Clearance Official, Regulatory Information Management Services, Office of Management.

[FR Doc. E7-11993 Filed 6-20-07; 8:45 am]

BILLING CODE 4000-01-P